FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 201143-021.

Agreement Name: West Coast MTO Agreement.

Parties: APM Terminals Pacific LLC; Fenix Marine Services, Ltd.; Everport Terminal Services, Inc.; International Transportation Service, LLC; LBCT LLC dba Long Beath Container Terminal LLC; Total Terminals International, LLC; West Basin Container Terminal LLC; Pacific Maritime Services, L.L.C.; SSAT (Pier A), LLC; TRAPAC LLC, Yusen Terminals LLC; and SSA Terminals, LLC.

Filing Party: Wayne Rohde; Cozen O'Connor.

Synopsis: The amendment revises Article XII of the Agreement to remove the January 31, 2022 expiration date for the temporary adjustment to the Traffic Mitigation Fee, and to provide for reversion from the temporary fee assessed under Article XII to the pre-existing fee upon not less than forty-five (45) days' notice to the Commission. The parties request expedited review.

Proposed Effective Date: 3/10/2022.

Location: https://www2.fmc.gov/FMC.Agreements.Web/Public/AgreementHistory/2090.

Dated: January 25, 2022.
William Cody,
Secretary.

[FR Doc. 2022-01725 Filed 1-27-22; 8:45 am]

BILLING CODE 6730-02-P